CONSUMER PRODUCT SAFETY COMMISSION

Petition Requesting Performance Standards for a System To Reduce or Prevent Injuries From Contact With the Blade of a Table Saw (Petition No. CP 03-2)

AGENCY: Consumer Product Safety Commission.

ACTION: Notice.

SUMMARY: The Commission has received a petition (CP 03-2) requesting that the Commission issue performance standards for a system to reduce or prevent injuries from contact with the blade of a table saw. The Commission solicits written comments concerning the petition.

DATES: The Office of the Secretary must receive comments on the petition by September 8, 2003.

ADDRESSES: Comments on the petition, preferably in five copies, should be mailed to the Office of the Secretary, Consumer Product Safety Commission, Washington, DC 20207, telephone (301) 504-0800, or delivered to the Office of the Secretary, Room 501, 4330 East-West Highway, Bethesda, Maryland 20814. Comments may also be filed by facsimile to (301) 504-0127 or by e-mail to cpsc-os@cpsc.gov. Comments should be captioned “Petition CP 03-2, Petition for Performance Standards for Table Saws.” A copy of the petition is available for inspection at the Commission's Public Reading Room, Room 419, 4330 East-West Highway, Bethesda, Maryland. The petition is also available on the CPSC Web site at http://www.cpsc.gov.

FOR FURTHER INFORMATION CONTACT: Rockelle Hammond, Office of the Secretary, Consumer Product Safety Commission, Washington, DC 20207; telephone (301) 504-6833, e-mail rhammond@cpsc.gov.

SUPPLEMENTARY INFORMATION: The Commission has received correspondence from Messrs. Gass, Fanning, and Fulmer, et al., requesting that the Commission issue a rule prescribing performance standards for a system to reduce or prevent injuries from contact with the blade of a table saw. The petitioners assert that a table saw not so equipped poses an increased risk of severe injuries including lacerations and amputations.

The petitioners maintain that a system to reduce or eliminate this risk must include the following: (1) A detection system capable of detecting contact or dangerous proximity between a person and the saw blade when the saw blade is—(a) spinning prior to cutting, (b) cutting natural wood with a moisture content of up to 50%, (c) cutting glued wood with a moisture content of up to 30%, and (d) spinning down after turning off the motor; (2) a reaction system to perform some action upon detection of such contact or dangerous proximity, such as stopping or retracting the blade, so that a person will be cut no deeper than ⅛ of an inch when contacting or approaching the blade at any point above the table and from any direction at a rate of one foot per second; (3) a self-diagnostic capability to verify the functionality of key components of the detection and reaction systems; and (4) an interlock system with the motor so that power cannot be applied to the motor if a fault interfering with the functionality of a key component in the detection or reaction system is detected.

The Commission is docketing the correspondence as a petition under provisions of the Consumer Product Safety Act, 15 U.S.C. 2051-2084.

Interested parties may obtain a copy of the petition by writing or calling the Office of the Secretary, Consumer Product Safety Commission, Washington, DC 20207; telephone (301) 504-0800. The petition is available on the CPSC Web site at http://www.cpsc.gov. A copy of the petition is also available for inspection from 8:30 a.m. to 5 p.m., Monday through Friday, in the Commission's Public Reading Room, Room 419, 4330 East-West Highway, Bethesda, Maryland.

Dated: July 2, 2003.
Todd A. Stevenson,
Secretary, Consumer Product Safety Commission.

[FR Doc. 03-17327 Filed 7-8-03; 8:45 am]

BILLING CODE 6355-01-P